DEPARTMENT OF TRANSPORTATION

Pipeline and Hazardous Materials Safety Administration

Hazardous Materials: Notice of Applications for Modifications to Special Permit

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before February 25, 2021.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC.

This notice of receipt of applications for special permit is published in accordance with part 107 of the Federal hazardous materials transportation law (49 U.S.C. 5117(b); 49 CFR 1.53(b)).

Issued in Washington, DC, on February 04, 2021.
Donald P. Burger,
Chief, General Approvals and Permits Branch.

Special Permits Data
Application No. | Applicant | Regulation(s) affected | Nature of the special permits thereof
7765-M | Cobham Mission Systems Orchard Park Inc | 173.302a(a)(1) | To modify the special permit to remove certain part numbers and to increase the maximum service pressure. (modes 1, 2, 3, 4).
15689-M | AVL Test Systems, Inc | 172.200, 172.301(c), 177.834(h) | To modify the special permit to authorize a new bottle with protected head/valve cover and a new heavy duty mounting method. (modes 1, 2, 3).
20876-M | Sodastream USA Inc | 178.71 | To modify the special permit to remove the requirement of marking the outer package with the special permit number and removed the requirement that a copy of the permit be carried aboard each vessel or motor vehicle used to transport packages covered by the permit. (modes 1, 2, 3).
20996-M | Norfolk Southern Railway Company | 174.85(a) | To modify the special permit to remove the requirement for signage on distributed power units. (mode 2).
21041-M | KLA Corporation | 173.212, 173.213 | To modify the special permit to authorize a change in the description of the hazmat being offered for transportation. (modes 1, 4).
21069-M | Catalina Cylinders, Inc | 173.302a, 178.71(l)(1) | To modify the special permit to authorize an additional requalification test method (pneumatic proof pressure) (modes 1, 2, 3, 4).
21104-M | Kelley Fuels, Inc | 172.302(c), 172.334(b)(3) | To modify the special permit to authorize the placarding to the lowest flashpoint when switching between straight loads of gasoline and combustible distillate fuels in U.S. DOT Specification cargo tank motor vehicles. (modes 1).

[FR Doc. 2021-02768 Filed 2-9-21; 8:45 am]

BILLING CODE 4910-60-P